DEPARTMENT OF COMMERCE

International Trade Administration

A-570-932

Postponement of Preliminary Determination of Antidumping Duty Investigation: Steel Threaded Rod from the People's Republic of China

AGENCY: Import Administration, International Trade Administration, Department of Commerce.

EFFECTIVE DATE: July 29, 2008.

FOR FURTHER INFORMATION CONTACT: Bobby Wong or Toni Dach AD/CVD Operations, Office 9, Import Administration, International Trade Administration, U.S. Department of Commerce, 14th Street and Constitution Avenue, NW, Washington, DC 20230; telephone: (202) 482-0409 and (202) 482-1655, respectively.

SUPPLEMENTARY INFORMATION:

Postponement of Preliminary Determination

On April 1, 2008, the Department of Commerce (the Department) published in the Federal Register the initiation of the antidumping investigation on steel threaded rod from the People's Republic of China (PRC). See Steel Threaded Rod from the People's Republic of China: Initiation of Antidumping Duty Investigation, 73 FR 17318 (April 1, 2008) (Initiation Notice).

The notice of initiation stated that the Department would issue its preliminary determination for this investigation no later than 140 days after the date of issuance of the initiation, in accordance with section 733(b)(1)(A) of the Tariff Act of 1930, as amended (the Act).

On July 15, 2008, the petitioner, Vulcan Threaded Products Inc., made a request pursuant to 19 CFR 351.205(b)(2) and (e) for a 50-day postponement of the preliminary determination. The petitioner requested postponement of the preliminary determination in order to allow more time to analyze and comment on the respondents' questionnaire responses.

For the reasons identified by the petitioner and because there are no compelling reasons to deny the request, the Department is postponing the deadline for the preliminary determination under section 733(c)(1)(A) of the Act by 50 days from the current deadline of August 12, 2008, to October 1, 2008. The deadline for the final determination will continue to be 75 days after the date of the preliminary determination, unless extended.

This notice is issued and published pursuant to section 733(c)(2) of the Act and 19 CFR 351.205(f)(1).

Dated: July 23, 2008.
David M. Spooner,
Assistant Secretary for Import Administration.

[FR Doc. E8-17365 Filed 7-28-08; 8:45 am]

BILLING CODE 3510-DS-S